DEPARTMENT OF THE INTERIOR

Bureau of Land Management

[14XL LLIDB00100 LF1000000.HT0000 LXSS024D0000 241A 4500063224]

Notice of Public Meeting, Gateway West Project Subcommittee of the Resource Advisory Council to the Boise District, Bureau of Land Management, U.S. Department of the Interior

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Gateway West Project Subcommittee of the Boise District Resource Advisory Council (RAC), will hold a meeting as indicated below.

DATES: The meeting will be held on May 13, 2014, at the Boise District Office located at 3948 Development Avenue, Boise, ID 83705, beginning at 9:00 a.m. and adjourning at 3:00 p.m. Members of the public are invited to attend. There will be a public comment period at the meeting.

FOR FURTHER INFORMATION CONTACT: Marsha Buchanan, Supervisory Administrative Specialist and RAC Coordinator, BLM Boise District, 3948 Development Ave., Boise, ID 83705, Telephone (208) 384-3364.

SUPPLEMENTARY INFORMATION: The Gateway West Project Subcommittee advises the Boise District Resource Advisory Council on matters of planning and management of the Gateway West Project (segments 8 and 9). The Boise District Resource Advisory Council advises the Secretary of the Interior, through the BLM, on a variety of planning and management issues associated with public land management in southwestern Idaho. The subcommittee will be discussing proposed routes of the Gateway West transmission line segments 8 and 9 and issues associated with mitigation of impacts to and enhancement of resources in the Morley Nelson Snake River Birds of Prey National Conservation Area. Agenda items and location may change due to changing circumstances. The public may present written or oral comments to members of the Subcommittee.

It is possible that the Subcommittee will not need this scheduled meeting to complete its work. If the meeting announced in the DATES section above is cancelled, announcements will be made through local media outlets and on the BLM Idaho Web site, http://www.blm.gov/id.

Individuals who plan to attend and need special assistance should contact the BLM Coordinator as provided above. Persons who use a telecommunications device for the deaf (TDD) may call the Federal Information Relay Service (FIRS) at 1-800-877-8339 to contact the above individual during normal business hours. The FIRS is available 24 hours a day, 7 days a week, to leave a message or question with the above individual. You will receive a reply during normal business hours.

Dated: April 21, 2014.
Brandon Knapton,
Acting BLM Boise District Manager.

[FR Doc. 2014-09508 Filed 4-24-14; 8:45 am]

BILLING CODE 4310-GG-P